DEPARTMENT OF TRANSPORTATION

Federal Aviation Administration

Public Notice for Waiver of Aeronautical Land-Use Assurance; Gerald R. Ford International Airport; Grand Rapids, MI

AGENCY: Federal Aviation Administration, DOT.

ACTION: Notice of intent of waiver with respect to land.

SUMMARY: The Federal Aviation Administration (FAA) is considering a proposal to change a portion of the airport from aeronautical use to non-aeronautical use and to authorize the sale of the airport property. The proposal consists of a parcel of land totaling approximately 5.76 acres. Current use and present condition is vacant grassland. The parcel is hilly and partially wooded. The land was acquired under FAA Project No. 9-20-072-6001. There are no impacts to the airport by allowing the airport to dispose of the property. The proposal concerns selling the land to the Michigan Department of Transportation to provide a right-of-way for the proposed Interstate-96 interchange with 36th Street. The project will improve traffic flow to areas along the northern boundary of the airport. Approval does not constitute a commitment by the FAA to financially assist in the disposal of the subject airport property nor a determination of eligibility for grant-in-aid funding from the FAA. The disposition of proceeds from the disposal of the airport property will be in accordance FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before July 22, 2005.

FOR FURTHER INFORMATION CONTACT: Mr. Lawrence C. King, Project Manager, Federal Aviation Administration, Great Lakes Region, Detroit Airports District Office, DET ADO 607, 11677 South Wayne Road, Romulus, Michigan 48174. Telephone Number (734) 229-2933/FAX Number (734) 229-2950. Documents reflecting this FAA action may be reviewed at this same location or at Gerald R. Ford International Airport, Grand Rapids, Michigan.

SUPPLEMENTARY INFORMATION: Following is a legal description of the property located in Grand Rapids, Kent County, Michigan, and described as follows:

Parcel 34B1

Land located in Cascade Township, Kent County, described as: Commencing at the South ¼ corner of Section 17, Town 6 North, Range 10 West, Cascade Township, Kent County, Michigan; thence North 0° 54′ 01″ West, along the North-South ¼ line of said Section, 408.58 feet to a point on the existing Southwesterly limited access right of way line of Highway I-96 (said right of way line located 150 feet Southwesterly of and parallel with the survey centerline of Eastbound Highway I-96); thence Northwesterly along said Southwesterly right of way line of Highway I-96 along the arc of a 3969.74 foot radius curve to the right, 81.61 feet (chord bearing North 55° 52′ 34″ West, chord distance 81.61 feet) to the POINT OF BEGINNING; thence South 75° 53′ 30″ West, 129.74 feet; thence Southerly along the arc of a 1240.00 foot radius curve to the left, 253.00 feet (chord bearing South 18° 10′ 46″ West, chord distance 252.56 feet) to the point of tangency of said curve; thence South 12° 20′ 04″ West, 353.50 feet to a point on the Northerly right of way lien of 36th Street (120′ wide); thence North 77° 39′ 56″ West along said Northerly right of way line of 36th Street, 320.00 feet; thence North 12° 20′ 04″ East, 353.50 feet to the point of curvature of a 1560.00 foot radius curve to the right; thence Northerly along the arc of said curve, 436.97 feet (chord bearing North 20° 21′ 32″ East, chord distance 435.55 feet) to a point on the South line of the plat of Kraft Industrial Park, as recorded in Liber 83 of plats, Page 30, Kent County Register of Deeds; thence in an Easterly direction along said South line of the plat of Kraft Industrial Park 95.17 feet to a point on said existing Southwesterly limited access right-of-way line of Highway I-96, thence Southeasterly along said Southwesterly limited access right-of-way line to the point of beginning.

Total acres to be released are 5.76, more or less.

Issued in Romulus, Michigan on May 24, 2005.
Irene R. Porter,
Manager, Detroit Airports District Office FAA, Great Lakes Region.

[FR Doc. 05-12374 Filed 6-21-05; 8:45 am]

BILLING CODE 4910-13-M